ENVIRONMENTAL PROTECTION AGENCY

40 CFR Parts 174 and 180

[EPA-HQ-OPP-2014-0008; FRL-9921-55]

Receipt of Several Pesticide Petitions Filed for Residues of Pesticide Chemicals in or on Various Commodities

AGENCY: Environmental Protection Agency (EPA).

ACTION: Notice of filing of petitions and request for comment.

SUMMARY: This document announces EPA's receipt of several initial filings of pesticide petitions requesting the establishment or modification of regulations for residues of pesticide chemicals in or on various commodities.

DATES: Comments must be received on or before February 27, 2015.

ADDRESSES: Submit your comments, identified by the Docket Identification (ID) Number and the Pesticide Petition Number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Robert McNally, Biopesticides and Pollution Prevention Division (BPPD) (7511P), main telephone number: (703) 305-7090, email address: BPPDFRNotices@epa.gov; or Susan Lewis, Registration Division (RD) (7505P), main telephone number: (703) 305-7090, email address: RDFRNotices@epa.gov. The mailing address for each contact person is: Office of Pesticide Programs, Environmental Protection Agency, 1200 Pennsylvania Ave. NW., Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, EPA seeks information on any groups or segments of the population who, as a result of their location, cultural practices, or other factors, may have atypical or disproportionately high and adverse human health impacts or environmental effects from exposure to the pesticides discussed in this document, compared to the general population.

II. What action is EPA taking?

EPA is announcing its receipt of several pesticide petitions filed under section 408 of the Federal Food, Drug, and Cosmetic Act (FFDCA), 21 U.S.C. 346a, requesting the establishment or modification of regulations in 40 CFR part 174 or part 180 for residues of pesticide chemicals in or on various food commodities. EPA is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

New Tolerances

1. PP 4E8230. (EPA-HQ-OPP-2014-0600). BASF Corporation, 26 Davis Dr., Research Triangle Park, NC 27709, requests to establish a tolerance in 40 CFR part 180 for residues of the insecticide teflubenzuron, in or on apple at 0.5 parts per million (ppm); apple, wet pomace at 0.8 ppm; broccoli at 0.2 ppm; cattle, muscle at 0.01 ppm; cattle, meat byproducts at 0.01 ppm; cauliflower at 0.01 ppm; citrus oil at 90 ppm; coffee, bean, green at 0.6 ppm; corn, field at 0.01 ppm; corn, field, refined oil at 0.02 ppm; egg at 0.01 ppm; goat, muscle at 0.01 ppm; goat, meat byproducts at 0.01 ppm; horse, muscle at 0.01 ppm; horse, meat byproducts at 0.01 ppm; lemon at 0.9 ppm; mango at 1.5 ppm; melon at 0.3 ppm; milk at 0.01 ppm; orange at 0.6 ppm; papaya at 0.4 ppm; pineapple at 0.8 ppm; pork, muscle at 0.01 ppm; pork, meat byproducts at 0.01 ppm; poultry, muscle at 0.01 ppm: Poultry, meat byproducts at 0.01 ppm; sheep, muscle at 0.01 ppm; sheep, meat byproducts at 0.01 ppm; soybean, seed at 0.05 ppm; soybean, hulls at 0.4 ppm; sugarcane, cane at 0.01 ppm; sunflower, seed at 0.3 ppm; tomato at 1.5 ppm; and tomato, paste at 5 ppm. High performance liquid chromatography with tandem mass spectrometry detection (HPLC-MS/MS) is used to measure and evaluate the residues of teflubenzuron for the proposed uses. Contact: RD.

2. PP 4F8258. (EPA-HQ-OPP-2014-0357). E.I. du Pont de Nemours & Company, 1007 Market St., Wilmington, DE 19898, requests to establish a tolerance in 40 CFR part 180 for residues of the insecticide cyantraniliprole, in or on artichokes, globe (import tolerance) at 0.1 parts per million (ppm); berries, low growing, except strawberries (crop subgroup 13-07H) (import tolerance) at 0.08 ppm; coffee, bean, green (import tolerance) at 0.05 ppm; grapes (import tolerance) at 1.5 ppm; olives (import tolerance) at 1.5 ppm; peanuts at 0.01 ppm; peanut hay at 3 ppm; pomegranates (import tolerance) at 0.01 ppm; rice, grain (import tolerance) at 0.03 ppm; soybeans, seed at 0.4 ppm; strawberries at 1.0 ppm; vegetables, foliage of legume (crop group 7) at 50 ppm; vegetables, leaves of root and tuber (crop group 2) at 40 ppm; vegetables, legume, dried shelled, except soybean (crop subgroup 6C) at 0.9 ppm; vegetables, legume, edible podded (crop subgroup 6A) at 2 ppm; vegetables, legume, succulent shelled (crop subgroup 6B) at 0.2 ppm; vegetables, root, except sugar beet (crop subgroup 1B) at 0.4 ppm; and tea, dried (import tolerance) at 30 ppm. Adequate analytical methodology, high-pressure liquid chromatography (HPLC) with electrospray tandem mass spectrometry (ESI-MS/MS), is available for enforcement purposes. Contact: RD.

3. PP 4F8320. (EPA-HQ-OPP-2014-0890). Syngenta Crop Protection LLC, P.O. Box 18300, Greensboro, NC 27419, requests to establish a tolerance in 40 CFR part 180 for residues of the insecticide cyantraniliprole, in or on corn, field and pop, forage at 0.04 parts per million (ppm); corn, field and pop, grain at 0.01 ppm; corn, field and pop, stover at 0.015 ppm; corn, sweet, forage at 0.02 ppm; corn, sweet, kernel plus cob with husks removed at 0.01 ppm; and corn, sweet, stover at 0.08 ppm. Adequate analytical methodology, high-pressure liquid chromatography (HPLC) with electrospray tandem mass spectrometry (ESI-MS/MS) detection, is used to measure and evaluate the chemical cyantraniliprole. Contact: RD.

Amended Tolerance

1. PP 4F8290. (EPA-HQ-OPP-2014-0889). FMC Corporation, 1735 Market St., Philadelphia, PA 19103, requests to amend the tolerances in 40 CFR 180.418 for residues of the insecticide, zeta-cypermethrin, in or on raw agricultural commodities corn, field, forage from 0.2 parts per million (ppm) to 9.0 ppm; corn, field, stover from 3.0 ppm to 30.0 ppm; and corn, pop, stover from 3.0 ppm to 30.0 ppm. The Gas Chromatography with Electron Capture Detection (GC/ECD) analytical method is used to measure and evaluate the residues of zeta-cypermethrin for the proposed, amended uses. Contact: RD.

New Tolerance Exemptions

1. PP 2F8102. (EPA-HQ-OPP-2012-0963). BASF Corporation, 26 Davis Dr., Research Triangle Park, NC 27709, requests to establish an exemption from the requirement of a tolerance in 40 CFR part 180 for residues of the fungicide Trichoderma asperelloides strain JM41R in or on all food commodities. The petitioner believes no analytical method is needed because, as proposed, the use of Trichoderma asperelloides strain JM41R would not result in residues that are of toxicological concern. Note: In the Federal Register of February 21, 2014 (79 FR 9870) (FRL-9904-98), EPA announced the filing of this petition to establish an exemption from the requirement of a tolerance for residues of Trichoderma fertile strain JM41R in or on all food commodities. Since that time, the petitioner provided additional data on the identity of the active ingredient to EPA. After reviewing these data, EPA now considers the correct identity of the active ingredient to be Trichoderma asperelloides strain JM41R and not Trichoderma fertile strain JM41R. In order to give the public an opportunity to comment on this new information, EPA is republishing its receipt of this tolerance exemption petition filing with an updated and accurate description. Contact: BPPD.

2. PP 4F8252. (EPA-HQ-OPP-2014-0920). Certis USA LLC, 9145 Guilford Rd., Suite 175, Columbia, MD 21046, requests to establish an exemption from the requirement of a tolerance in 40 CFR part 180 for residues of the fungicide Bacillus mycoides isolate J, in or on all agricultural commodities. The petitioner believes no analytical method is needed because an exemption from the requirement of a tolerance is being sought for any residues and enforcement of residue levels would not be needed. Contact: BPPD.

3. PP 4F8271. (EPA-HQ-OPP-2014-0919). Marrone Bio Innovations, Inc., 2121 Second St., Suite B-107, Davis, CA 95618, requests to establish an exemption from the requirement of a tolerance in 40 CFR part 180 for residues of the nematocide, fungicide, and insecticide, sterile grain inoculated with Muscodor albus strain SA-13, in or on all food commodities. The petitioner believes no analytical method is needed because the active ingredient will not be in direct contact with treated commodities, has limited survivability once the nutrient source is exhausted, and will not result in residues of toxicological concern. Contact: BPPD.

4. PP 4F8276. (EPA-HQ-OPP-2014-0454). Monsanto Company, 800 North Lindbergh Blvd., St. Louis, MO 63167, requests to establish an exemption from the requirement of a tolerance in 40 CFR part 174 for residues of the plant-incorporated protectant, Bacillus thuringiensis Cry2Ab2 protein, in or on soybean. The petitioner believes no analytical method is needed because an exemption from the requirement of a tolerance is being sought. Contact: BPPD.

5. PP 4F8289. (EPA-HQ-OPP-2014-0834). Southern Garden Citrus, 1820 Country Rd. 833, Clewiston, FL 33440, requests to establish an exemption from the requirement of a tolerance in 40 CFR part 174 for residues of defensin proteins derived from spinach (Spinacia oleracea L.) and inserted into citrus plants in order to confer disease resistance. The petitioner believes no analytical method is needed because an exemption from the requirement of a tolerance is being sought. Contact: BPPD.

6. PP IN-10683. (EPA-HQ-OPP-2014-0176). Exponent, Inc., 1150 Connecticut Ave. NW., Suite 1100, Washington, DC 20036 (on behalf of Huntsman Corporation, 8600 Gosling Rd., The Woodlands, TX 77381), requests to establish an exemption from the requirement of a tolerance in 40 CFR part 180 for residues of di-n-butyl carbonate (CAS No. 542-52-9) when used as a pesticide inert ingredient in pesticide formulations as a solvent without limits. The petitioner believes no analytical method is needed because an exemption from the requirement of a tolerance is being sought for this inert ingredient. Contact: RD.

7. PP IN-10770. (EPA-HQ-OPP-2014-0874). BASF Corporation, 100 Park Ave., Florham Park, NJ 07932, requests to establish an exemption from the requirement of a tolerance in 40 CFR 180.960 for residues of 2-propenoic acid, polymer with ethenyl acetate, ethenylbenzene, 2-ethylhexyl 2-propenoate and ethyl 2-propenoate (CAS No. 85075-52-1) with a minimum number average molecular weight (in amu) of 50,000 Daltons, when used as a pesticide inert ingredient in pesticide formulations. The petitioner believes no analytical method is needed because it is not relevant based upon the definition of a low risk polymer under 40 CFR 723.250. Contact: RD.

Authority: 21 U.S.C. 346a.

Dated: January 20, 2015.
Robert McNally,
Director, Biopesticides and Pollution Prevention Division, Office of Pesticide Programs.

[FR Doc. 2015-01603 Filed 1-27-15; 8:45 am]

BILLING CODE 6560-50-P